DEPARTMENT OF TRANSPORTATION

Federal Aviation Administration

Notice of Intent To Rule on a Land Release Request at Camdenton Memorial-Lake Regional Airport (OZS), Camdenton, MO

AGENCY: Federal Aviation Administration (FAA), DOT.

ACTION: Notice of request to release of airport land.

SUMMARY: The FAA proposes to rule and invites public comment on the request to release and sell two parcels of land totaling 1.03 acres of federally obligated airport property at the Camdenton Memorial-Lake Regional Airport (OZS), Camdenton, Missouri.

DATES: Comments must be received on or before August 17, 2022.

ADDRESSES: Comments on this application may be mailed or delivered to the FAA at the following address: Amy J. Walter, Airports Land Specialist, Federal Aviation Administration, Airports Division, ACE-620G, 901 Locust, Room 364, Kansas City, MO 64106.

In addition, one copy of any comments submitted to the FAA must be mailed or delivered to: Jeffrey J. Hooker, City Administrator, City of Camdenton, 437 W US Hwy. 54, Camdenton, MO 65020, (573) 346-3600.

FOR FURTHER INFORMATION CONTACT: Amy J. Walter, Airports Land Specialist, Federal Aviation Administration, Airports Division, ACE-620G, 901 Locust, Room 364, Kansas City, MO 64106, (816) 329-2603, amy.walter@faa.gov. The request to release property may be reviewed, by appointment, in person at this same location.

SUPPLEMENTARY INFORMATION: The FAA invites public comment on the request to release two parcels of land totaling 1.03 acres of airport property at the Camdenton Memorial-Lake Regional Airport (OZS) under the provisions of 49 U.S.C. 47107(h)(2). The City of Camdenton requested a release from the FAA to sell one parcel, totaling approximately 0.26 acres, to Camden County for road right-of-way and one parcel totaling approximately 0.47 acres, to an adjoining property owner, James E. Newman. The FAA determined this request to release and sell property at the Camdenton Memorial Lake-Regional Airport (OZS) submitted by the Sponsor meets the procedural requirements of the FAA and the release and sale of the property does not and will not impact future aviation needs at the airport. The FAA may approve the request, in whole or in part, no sooner than thirty days after the publication of this notice.

The following is a brief overview of the request:

The Camdenton Memorial-Lake Regional Airport (OZS) is proposing the release and sale of a two parcels of airport property containing 1.03 acres. The release of land is necessary to comply with Federal Aviation Administration Grant Assurances that do not allow federally acquired airport property to be used for non-aviation purposes. The sale of the subject property will result in the land at the Camdenton Memorial-Lake Regional Airport (OZS) being changed from aeronautical to non-aeronautical use and release the lands from the conditions of the Airport Improvement Program Grant Agreement Grant Assurances in order to sell the land. In accordance with 49 U.S.C. 47107(c)(2)(B)(i) and (iii), the airport will receive fair market value for the property, which will be subsequently reinvested in another eligible airport improvement project for general aviation use.

Any person may inspect, by appointment, the request in person at the FAA office listed above under FOR FURTHER INFORMATION CONTACT. In addition, any person may request an appointment to inspect the application, notice and other documents determined by the FAA to be related to the application in person at the Camdenton City Hall.

Issued in Kansas City, MO, on July 8, 2022.
James A. Johnson,
Director, FAA Central Region, Airports Division.

[FR Doc. 2022-14986 Filed 7-15-22; 8:45 am]

BILLING CODE 4910-13-P